ENVIRONMENTAL PROTECTION AGENCY

40 CFR Part 82

Protection of Stratospheric Ozone; CFR Correction

This rule is being published by the Office of the Federal Register to correct an editorial or technical error that appeared in the most recent annual revision of the Code of Federal Regulations.

In Title 40 of the Code of Federal Regulations, Parts 82 to 84, revised as of July 1, 2024, in appendix B to subpart G, in the table titled “Refrigerants—Acceptable Subject to Use Conditions”, footnotes 4 through 7 are added to read as follows:

Appendix B to Subpart G of Part 82—Substitutes Subject To Use Restrictions and Unacceptable Substitutes

Refrigerants—Acceptable Subject to Use Conditions

* * * * *

⁴ SAE, J639 NOV2020, Safety and Design Standards for Motor Vehicle Refrigerant Vapor Compression Systems, Revised November 2020.

⁵ SAE, J1739 JAN2021, Potential Failure Mode and Effects Analysis (FMEA) Including Design FMEA, Supplemental FMEA-MSR, and Process FMEA, Revised January 2021.

⁶ SAE, J2844 JAN2013, R-1234yf (HFO-1234yf) New Refrigerant Purity and Container Requirements for Use in Mobile Air-Conditioning Systems, Revised January 2013.

⁷ The Director of the Federal Register approves this incorporation by reference in accordance with 5 U.S.C. 552(a) and 1 CFR part 51. It is available for inspection at the EPA and at the National Archives and Records Administration (NARA). Contact EPA at: U.S. EPA's Air and Radiation Docket; EPA West Building, Room 3334, 1301 Constitution Ave. NW, Washington DC 202-566-1742. For information on the availability of this material at NARA, email fr.inspection@nara.gov, or go to: www.archives.gov/federal-register/cfr/ibr-locations.html. Available from SAE International (SAE): SAE Customer Service, 400 Commonwealth Drive, Warrendale, PA 15096-0001; 1-877-606-7323 in the United States or 724-776-4970 outside the United States or in Canada; website: https://www.sae.org/standards.

* * * * *

[FR Doc. 2025-11780 Filed 6-25-25; 8:45 am]

BILLING CODE 0099-10-P